DEPARTMENT OF COMMERCE

International Trade Administration

United States-Mexico-Canada Agreement (USMCA), Article 10.12; Binational Panel Review: Notice of Panel Decision

AGENCY: United States Section, USMCA Secretariat, International Trade Administration, Department of Commerce.

ACTION: Notice of Panel Decision.

SUMMARY: On June 14, 2022, the Binational Panel issued its Decision in the matter of Certain Gypsum Board, Sheet, or Panel originating in or exported from the United States of America. The Binational Panel affirmed the Canadian Intentional Trade Tribunal's Final Determination.

FOR FURTHER INFORMATION CONTACT: Vidya Desai, United States Secretary, USMCA Secretariat, Room 2061, 1401 Constitution Avenue NW, Washington, DC 20230, (202) 482-5438.

SUPPLEMENTARY INFORMATION: Article 10.12 of Chapter 10 of USMCA provides a dispute settlement mechanism involving trade remedy determinations issued by the Government of the United States, the Government of Canada, and the Government of Mexico. Following a Request for Panel Review, a Binational Panel is composed to provide judicial review of the trade remedy determination being challenged and then issue a binding Panel Decision. There are established Rules of Procedure for Article 10.12 (Binational Panel Reviews), which were adopted by the three governments for panels requested pursuant to Article 10.12(2) of USMCA. The notice of this Binational Panel's Decision is being published pursuant to Rule 74. For the complete Rules, please see https://can-mex-usa-sec.org/secretariat/agreement-accord-acuerdo/usmca-aceum-tmec/rules-regles-reglas/article-article-articulo_10_12.aspx?lang=eng.

Dated: June 21, 2022.
Vidya Desai,
U.S. Secretary, USMCA Secretariat.

[FR Doc. 2022-13524 Filed 6-23-22; 8:45 am]

BILLING CODE 3510-GT-P